DEPARTMENT OF COMMERCE

International Trade Administration

[A-570-901]

Certain Lined Paper Products From People's Republic of China: Initiation and Preliminary Results of Changed Circumstances Review, and Intent To Revoke Order in Part

AGENCY: Import Administration, International Trade Administration, Department of Commerce.

DATES: Effective Date: August 17, 2011.

SUMMARY: On June 30, 2011, the Department of Commerce (“Department”) received a request from the Association of American School Paper Suppliers (“AASPS”) ¹ for a changed circumstances review for the purpose of revoking, in part, the antidumping duty order on certain lined paper products (“CLPP”) from the People's Republic of China (“PRC”). AASPS claims that producers accounting for substantially all of the production of the domestic like product to which the order was issued no longer wish to maintain the order with respect to FiveStar® Advance™ notebooks and notebook organizers without polyvinyl chloride (“PVC”) coatings. Therefore, we are notifying the public of our intent to revoke, in part, the antidumping duty order as it relates to imports of FiveStar® Advance™ notebooks and notebook organizers as described below. The Department invites interested parties to comment on these preliminary results.

¹ AASPS is the domestic industry coalition that filed the underlying antidumping (“AD”) petition, and consists of three members—MeadWestvaco Corporation (“MWV”), Norcom, Inc., and Top Flight Inc.

FOR FURTHER INFORMATION CONTACT: Cindy Robinson, Import Administration, International Trade Administration, U.S. Department of Commerce, 14th Street and Constitution Avenue, NW., Washington DC 20230; telephone (202) 482-3797.

Background

On September 8, 2006, the Department published its final determination in the antidumping duty investigation of CLPP from the PRC.² On September 28, 2006, the Department issued an antidumping duty order.³

² See Notice of Final Determination of Sales at Less Than Fair Value, and Affirmative Critical Circumstances, In Part: Certain Lined Paper Products from the People's Republic of China, 71 FR 53079 (September 8, 2006) (“Final Determination”).

³ See Notice of Amended Final Determination of Sales at Less Than Fair Value: Certain Lined Paper Products from the People's Republic of China; Notice of Antidumping Duty Orders: Certain Lined Paper Products from India, Indonesia and the People's Republic of China; and Notice of Countervailing Duty Orders: Certain Lined Paper Products from India and Indonesia, 71 FR 56949 (September 28, 2006) (“CLPP Order”).

On June 30, 2011, the Department received a request from AASPS for a changed circumstances review to revoke, in part, the antidumping duty order on CLPP from the PRC with respect to FiveStar® Advance™ notebooks and notebook organizers without PVC coatings. We have not received comments from any other party.

Scope of the Order

The scope of this order includes certain lined paper products, typically school supplies (for purposes of this scope definition, the actual use of or labeling these products as school supplies or non-school supplies is not a defining characteristic) composed of or including paper that incorporates straight horizontal and/or vertical lines on ten or more paper sheets (there shall be no minimum page requirement for looseleaf filler paper) including but not limited to such products as single- and multi-subject notebooks, composition books, wireless notebooks, looseleaf or glued filler paper, graph paper, and laboratory notebooks, and with the smaller dimension of the paper measuring 6 inches to 15 inches (inclusive) and the larger dimension of the paper measuring 8¾ inches to 15 inches (inclusive). Page dimensions are measured size (not advertised, stated, or “tear-out” size), and are measured as they appear in the product (i.e., stitched and folded pages in a notebook are measured by the size of the page as it appears in the notebook page, not the size of the unfolded paper). However, for measurement purposes, pages with tapered or rounded edges shall be measured at their longest and widest points. Subject lined paper products may be loose, packaged or bound using any binding method (other than case bound through the inclusion of binders board, a spine strip, and cover wrap). Subject merchandise may or may not contain any combination of a front cover, a rear cover, and/or backing of any composition, regardless of the inclusion of images or graphics on the cover, backing, or paper. Subject merchandise is within the scope of this order whether or not the lined paper and/or cover are hole punched, drilled, perforated, and/or reinforced. Subject merchandise may contain accessory or informational items including but not limited to pockets, tabs, dividers, closure devices, index cards, stencils, protractors, writing implements, reference materials such as mathematical tables, or printed items such as sticker sheets or miniature calendars, if such items are physically incorporated, included with, or attached to the product, cover and/or backing thereto.

Specifically excluded from the scope of this order are:

• Unlined copy machine paper;

• Writing pads with a backing (including but not limited to products commonly known as “tablets,” “note pads,” “legal pads,” and “quadrille pads”), provided that they do not have a front cover (whether permanent or removable). This exclusion does not apply to such writing pads if they consist of hole-punched or drilled filler paper;

• Three-ring or multiple-ring binders, or notebook organizers incorporating such a ring binder provided that they do not include subject paper;

• Index cards;

• Printed books and other books that are case bound through the inclusion of binders board, a spine strip, and cover wrap;

• Newspapers;

• Pictures and photographs;

• Desk and wall calendars and organizers (including but not limited to such products generally known as “office planners,” “time books,” and “appointment books”);

• Telephone logs;

• Address books;

• Columnar pads & tablets, with or without covers, primarily suited for the recording of written numerical business data;

• Lined business or office forms, including but not limited to: pre-printed business forms, lined invoice pads and paper, mailing and address labels, manifests, and shipping log books;

• Lined continuous computer paper;

• Boxed or packaged writing stationary (including but not limited to products commonly known as “fine business paper,” “parchment paper”, and “letterhead”), whether or not containing a lined header or decorative lines;

• Stenographic pads (“steno pads”), Gregg ruled (“Gregg ruling” consists of a single- or double-margin vertical ruling line down the center of the page. For a six-inch by nine-inch stenographic pad, the ruling would be located approximately three inches from the left of the book), measuring 6 inches by 9 inches;

Also excluded from the scope of this order are the following trademarked products:

• FlyTM lined paper products: A notebook, notebook organizer, loose or glued note paper, with papers that are printed with infrared reflective inks and readable only by a Fly™ pen-top computer. The product must bear the valid trademark Fly™ (products found to be bearing an invalidly licensed or used trademark are not excluded from the scope).

• ZwipesTM: A notebook or notebook organizer made with a blended polyolefin writing surface as the cover and pocket surfaces of the notebook, suitable for writing using a specially-developed permanent marker and erase system (known as a Zwipes™ pen). This system allows the marker portion to mark the writing surface with a permanent ink. The eraser portion of the marker dispenses a solvent capable of solubilizing the permanent ink allowing the ink to be removed. The product must bear the valid trademark Zwipes™ (products found to be bearing an invalidly licensed or used trademark are not excluded from the scope).

• FiveStar®AdvanceTM: A notebook or notebook organizer bound by a continuous spiral, or helical, wire and with plastic front and rear covers made of a blended polyolefin plastic material joined by 300 denier polyester, coated on the backside with PVC (poly vinyl chloride) coating, and extending the entire length of the spiral or helical wire. The polyolefin plastic covers are of specific thickness; front cover is 0.019 inches (within normal manufacturing tolerances) and rear cover is 0.028 inches (within normal manufacturing tolerances). Integral with the stitching that attaches the polyester spine covering, is captured both ends of a 1″ wide elastic fabric band. This band is located 2-3/8″ from the top of the front plastic cover and provides pen or pencil storage. Both ends of the spiral wire are cut and then bent backwards to overlap with the previous coil but specifically outside the coil diameter but inside the polyester covering. During construction, the polyester covering is sewn to the front and rear covers face to face (outside to outside) so that when the book is closed, the stitching is concealed from the outside. Both free ends (the ends not sewn to the cover and back) are stitched with a turned edge construction. The flexible polyester material forms a covering over the spiral wire to protect it and provide a comfortable grip on the product. The product must bear the valid trademarks FiveStar®Advance™ (products found to be bearing an invalidly licensed or used trademark are not excluded from the scope).

• FiveStar Flex™: A notebook, a notebook organizer, or binder with plastic polyolefin front and rear covers joined by 300 denier polyester spine cover extending the entire length of the spine and bound by a 3-ring plastic fixture. The polyolefin plastic covers are of a specific thickness; front cover is 0.019 inches (within normal manufacturing tolerances) and rear cover is 0.028 inches (within normal manufacturing tolerances). During construction, the polyester covering is sewn to the front cover face to face (outside to outside) so that when the book is closed, the stitching is concealed from the outside. During construction, the polyester cover is sewn to the back cover with the outside of the polyester spine cover to the inside back cover. Both free ends (the ends not sewn to the cover and back) are stitched with a turned edge construction. Each ring within the fixture is comprised of a flexible strap portion that snaps into a stationary post which forms a closed binding ring. The ring fixture is riveted with six metal rivets and sewn to the back plastic cover and is specifically positioned on the outside back cover. The product must bear the valid trademark FiveStar Flex™ (products found to be bearing an invalidly licensed or used trademark are not excluded from the scope).

Merchandise subject to this order is typically imported under headings 4810.22.5044, 4811.90.9050, 4820.10.2010, 4820.10.2020, 4820.10.2030, 4820.10.2040, 4820.10.2060, and 4820.10.4000 of the Harmonized Tariff Schedule of the United States (“HTSUS”). The HTSUS headings are provided for convenience and customs purposes; however, the written description of the scope of this order is dispositive.

Since the issuance of the order, the Department has issued numerous scope rulings.

Initiation and Preliminary Results of Changed Circumstances Review, and Intent To Revoke Order in Part

At the request of AASPS, and in accordance with sections 751(b)(1) and (d)(1) of the Tariff Act of 1930, as amended (“Act”), and 19 CFR 351.216, the Department is initiating a changed circumstances review of the AD order on CLPP from the PRC to determine whether partial revocation of the order is warranted with respect to FiveStar® Advance™ notebooks and notebook organizers without PVC coatings. Section 782(h)(2) of the Act and 19 CFR 351.222(g)(1)(i) provide that the Department may revoke an order (in whole or in part) if it determines that producers accounting for substantially all of the production of the domestic like product have expressed a lack of interest in the order, in whole or in part. To establish whether the producers represent “substantially all” of domestic producers, as set forth in section 782(h) of the Act, and 19 CFR 351.222(g)(1)(i), the Department has previously interpreted this term to mean those domestic producers accounting for at least 85 percent of the total production of domestic like product covered by the order. See 19 CFR 351.208(c). In addition, in the event the Department determines that expedited action is warranted, 19 CFR 351.221(c)(3)(ii) permits the Department to combine the notices of initiation and preliminary results.

In accordance with section 751(b) of the Act, and 19 CFR 351.222(g)(l)(i) and 351.221(c)(3), we are initiating this changed circumstances review and have determined that expedited action is warranted. AASPS asserts that MWV is the sole domestic producer of FiveStar® Advance™ notebooks and notebook organizers without PVC coatings and further, based on information reasonably available to the AASPS with respect to the U.S. lined paper market, the producers accounting for substantially all of the production of the domestic like product to which the order pertains support the request for changed circumstances review as filed.⁴ Consistent with established precedent,⁵ because AASPS, the petitioner in the underlying investigation, has made an affirmative statement of no interest and claimed that parties accounting for more than 85 percent of production of the domestic like product support the partial revocation, we are accepting their claim. In accordance with section 751(b) of the Act and 19 CFR 351.222(g)(1)(i), and absent any evidence to the contrary, we find that substantially all of the producers of the domestic like product have expressed a lack of interest in maintaining the order with respect to FiveStar® Advance™ notebooks and notebook organizers without PVC coatings. Based on the expression of no interest by companies accounting for substantially all of the production of the domestic like product to which the CLPP Order pertains, we preliminarily determine that the domestic producers of the like product have no interest in the continued application of the AD order on CLPP from the PRC to the merchandise that is subject to this request. Accordingly, we are notifying the public of our intent to revoke, in part, the AD order with respect to FiveStar® Advance™ notebooks and notebook organizers without PVC coatings. Therefore, we intend to change the scope of the order on CLPP from the PRC to include the following exclusion: Excluded from the scope is FiveStar® Advance™ notebooks and notebook organizers without PVC coatings.

⁴ See AASPS's June 29, 2011, letter to the Department at pgs. 5-6.

⁵ See, e.g., Certain Corrosion-Resistant Carbon Steel Flat Products and Cut-to-Length Carbon Steel Plate Products From Germany: Preliminary Results of Countervailing Duty Changed Circumstances Reviews, 69 FR 4114 (January 28, 2004), unchanged in Certain Corrosion-Resistant Carbon Steel Flat Products and Cut-to-Length Carbon Steel Plate Products from Germany: Final Results of Countervailing Duty Changed Circumstances Reviews and Revocation of the Orders, in Whole, 69 FR 17132 (April 1, 2004). See also Certain Pasta From Italy: Preliminary Results of Countervailing Duty Changed Circumstances Review and Intent To Revoke, In Part, 75 FR 78223 (December 15, 2010), unchanged in Certain Pasta From Italy: Final Results of Countervailing Duty Changed Circumstances Review and Revocation, In Part, 76 FR 27634 (May 12, 2011).

Public Comment

Interested parties are invited to comment on these preliminary results. Written comments may be submitted no later than 14 days after the date of publication of these preliminary results. Rebuttals to written comments, limited to issues raised in such comments, may be filed no later than 21 days after the date of publication of these preliminary results. The Department will issue the final results of this changed circumstances review, which will include its analysis of any written comments, no later than 270 days after the date on which this review was initiated, or within 45 days if all parties agree to our preliminary results. See 19 CFR 351.216(e).

If final revocation occurs, we will instruct U.S. Customs and Border Protection to end the suspension of liquidation for the merchandise covered by the revocation on the effective date of the notice of revocation and to release any cash deposit or bond. See 19 CFR 351.222(g)(4). The current requirement for a cash deposit of estimated antidumping duties on all subject merchandise will continue unless and until it is modified pursuant to the final results of this changed circumstances review.

This initiation and preliminary results of review and notice are in accordance with sections 751(b) and 777(i) of the Act and 19 CFR 351.216, 351.221, and 351.222.

Dated: August 11, 2011.
Paul Piquado,
Acting Deputy Assistant Secretary for Import Administration.

[FR Doc. 2011-21010 Filed 8-16-11; 8:45 am]

BILLING CODE 3510-DS-P